FEDERAL RESERVE SYSTEM

Agency Information Collection Activities: Proposed Collection; Comment Request

AGENCY: Board of Governors of the Federal Reserve System

SUMMARY: On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

Request for comment on information collection proposals.

The following information collections, which are being handled under this delegated authority, have received initial Board approval and are hereby published for comment. At the end of the comment period, the proposed information collections, along with an analysis of comments and recommendations received, will be submitted to the Board for final approval under OMB delegated authority. Comments are invited on the following:

a. whether the proposed collection of information is necessary for the proper performance of the Federal Reserve's functions; including whether the information has practical utility;

b. the accuracy of the Federal Reserve's estimate of the burden of the proposed information collection, including the validity of the methodology and assumptions used;

c. ways to enhance the quality, utility, and clarity of the information to be collected; and

d. ways to minimize the burden of information collection on respondents, including through the use of automated collection techniques or other forms of information technology.

DATES: Comments must be submitted on or before March 15, 2004.

ADDRESSES: Comments may be mailed to Ms. Jennifer J. Johnson, Secretary, Board of Governors of the Federal Reserve System, 20th Street and Constitution Avenue, N.W., Washington, DC 20551. However, because paper mail in the Washington area and at the Board of Governors is subject to delay, please consider submitting your comments by e-mail to regs.comments@federalreserve.gov, or faxing them to the Office of the Secretary at 202-452-3819 or 202-452-3102. Members of the public may inspect comments in Room MP-500 between 9:00 a.m. and 5:00 p.m. on weekdays pursuant to 261.12, except as provided in 261.14, of the Board's Rules Regarding Availability of Information, 12 CFR 261.12 and 261.14.

A copy of the comments may also be submitted to the OMB desk officer for the Board: Joseph Lackey, Office of Information and Regulatory Affairs, Office of Management and Budget, New Executive Office Building, Room 3208, Washington, DC 20503.

FOR FURTHER INFORMATION CONTACT: A copy of the proposed form and instructions, the Paperwork Reduction Act Submission (OMB 83-I), supporting statement, and other documents that will be placed into OMB's public docket files once approved may be requested from the agency clearance officer, whose name appears below.

Cindy Ayouch, Federal Reserve Board Clearance Officer (202-452-3829), Division of Research and Statistics, Board of Governors of the Federal Reserve System, Washington, DC 20551. Telecommunications Device for the Deaf (TDD) users may contact (202-263-4869), Board of Governors of the Federal Reserve System, Washington, DC 20551.

Proposal to approve under OMB delegated authority the extension for three years, without revision, of the following reports:

1. Report title: Reports of Money Market Mutual Fund Assets

Agency form number: FR 2051a, b

OMB control number: 7100-0012

Frequency: Weekly and Monthly

Reporters: Money Market Mutual Funds

Annual reporting hours: 7,140 hours

Estimated average hours per response: 3 minutes (FR 2051a), 12 minutes (FR 2051b)

Number of respondents: 2,100 (FR 2051a), 700 (FR 2051b)

General description of report: This information collection is voluntary (12 U.S.C. 353 et. seq.) and is given confidential treatment [5 U.S.C. 552(b)(4)].

Abstract: The weekly FR 2051a collects data on total shares outstanding for approximately 2,100 money market mutual funds (MMMFs) and the monthly FR 2051b collects data on total net assets and portfolio holdings for approximately 700 funds. The data are used to construct the monetary aggregates and for the analysis of current money market conditions and banking developments.

2. Report title: Uniform Application for Municipal Securities Principal or Municipal Securities Representative Associated with a Bank Municipal Securities Dealer; Uniform Termination Notice for Municipal Securities Principal or Municipal Securities Representative Associated with a Bank Municipal Securities Dealer

Agency form number: FR MSD-4, FR MSD-5

OMB control number: 7100-0100, 7100-0101

Frequency: On occasion

Reporters: State member banks, bank holding companies, and foreign dealer banks engaging in activities as municipal securities dealers.

Annual reporting hours: 30: FR MSD-4; 18: FR MSD-5

Estimated average hours per response: 1.00: FR MSD-4; 0.25: FR MSD-5

Number of respondents: 30: FR MSD-4; 70: FR MSD-5

General description of report: These information collections are mandatory (15 U.S.C. §§ 78o-4, 78q and 78w) and are given confidential treatment (5 U.S.C. § 552(b)(6)).

Abstract: The FR MSD-4 collects information, such as personal history and professional qualifications, on an employee whom the bank wishes to assume the duties of a municipal securities principal or representative. The FR MSD-5 collects the date of, and reason for, termination of such an employee.

3. Report title: Notice By Financial Institutions of Government Securities Broker or Government Securities Dealer Activities; Notice By Financial Institutions of Termination of Activities as a Government Securities Broker or Government Securities Dealer

Agency form number: FR G-FIN, FR G-FINW

OMB control number: 7100-0224

Frequency: On occasion

Reporters: State member banks, foreign banks, uninsured state branches or state agencies of foreign banks, commercial lending companies owned or controlled by foreign banks, and Edge corporations.

Annual reporting hours: 25: FR G-FIN; 1: FR G-FINW

Estimated average hours per response: 1.00: FR G-FIN; 0.25: FR G-FINW

Number of respondents: 25: FR G-FIN; 4: FR G-FINW

General description of report: These information collections are mandatory (15 U.S.C. 78o-5(a)(1)(B)) and are not given confidential treatment.

Abstract: The Government Securities Act of 1986 (the Act) requires financial institutions to notify their appropriate regulatory authority (ARA) of their intent to engage in government securities broker or dealer activity, to amend information submitted previously, and to record their termination of such activity. The Federal Reserve Board uses the information in its supervisory capacity to measure compliance with the Act.

Board of Governors of the Federal Reserve System, January 8, 2004.
Jennifer J. Johnson,
Secretary of the Board.

[FR Doc. 04-732 Filed 1-13-04; 8:45 am]

BILLING CODE 6210-01-S